DEPARTMENT OF TRANSPORTATION

Office of the Secretary

Notice of Applications for Certificates of Public Convenience and Necessity and Foreign Air Carrier Permits Filed Under Subpart B (formerly Subpart Q) During the Week Ending June 28, 2002

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-12569.

Date Filed: June 24, 2002.

Due Date for Answers, Conforming Applications, or Motion to Modify Scope: July 15, 2002.

Description: Application of Atlantic Coast Jet, Inc., requesting reissuance of its certificate of public convenience and necessity in the name of Atlantic Coast Jet, LLC, or in the alternative, approval of the transfer of Atlantic Coast Jet's certificate authority to Atlantic Coast Jet, LLC.

Docket Number: OST-2002-12632.

Date Filed: June 26, 2002.

Due Date for Answers, Conforming Applications, or Motion to Modify Scope: July 17, 2002.

Description: Application of Tatonduk Outfitters, Ltd. d/b/a, Tatonduk Flying Service d/b/a, Air Cargo Express, pursuant to Section 215.4, requesting registration of a name change and reissuance of certificates of public convenience in the name of Tatonduk to Tatonduk Outfitters Limited d/b/a Tatonduk Flying service d/b/a, Air Cargo Express d/b/a, Everts air Alaska d/b/a Everts Air Cargo.

Dorothy Y. Beard,
Federal Register Liaison.

[FR Doc. 02-17747 Filed 7-12-02; 8:45 am]

BILLING CODE 4910-62-P